DEPARTMENT OF HEALTH AND HUMAN SERVICES

National Institutes of Health

Center for Scientific Review; Amended Notice of Meeting

Notice is hereby given of a change in the meeting of the Bacterial Pathogenesis Study Section, October 09, 2013, 08:00 a.m. to October 09, 2013, 05:30 p.m., Courtyard Chicago Downtown/River North, 30 East Hubbard, Chicago, IL 60611, which was published in the Federal Register on September 17, 2013, 78 FR 57169.

The meeting will be held at the National Institutes of Health, 6701 Rockledge Drive, Bethesda, MD 20892 on November 15, 2013, starting at 08:00 a.m. and ending at 06:00 p.m. The meeting is closed to the public.

Dated: October 29, 2013.
Melanie J. Gray,
Program Analyst, Office of Federal Advisory Committee Policy.

[FR Doc. 2013-26198 Filed 11-1-13; 8:45 am]

BILLING CODE 4140-01-P